DEPARTMENT OF HEALTH AND HUMAN SERVICES

Centers for Disease Control and Prevention

Notice of Availability of Final Environmental Assessment (FINAL EA) and a Finding of No Significant Impact (FONSI) for Metropolitan Sewer District of Greater Cincinnati Easement on HHS/CDC/NIOSH Taft North Campus, Cincinnati, OH

AGENCY: Centers for Disease Control and Prevention (CDC), Department of Health and Human Services (HHS).

ACTION: Notice of Availability of Final Environmental Assessment (FINAL EA) and a Finding of No Significant Impact (FONSI) for Metropolitan Sewer District of Greater Cincinnati Easement on HHS/CDC/NIOSH Taft North Campus, Cincinnati, Ohio.

SUMMARY: The Centers for Disease Control and Prevention (CDC) within the Department of Health and Human Services (HHS) is issuing this notice to advise the public that HHS/CDC has prepared, and signed on January 3, 2013, a Finding of No Significant Impact (FONSI) based on the Final Environmental Assessment (FINAL EA) for Metropolitan Sewer District of Greater Cincinnati Easement on the HHS/CDC/NIOSH Taft North Campus, Cincinnati, Ohio. HHS/CDC prepared the final EA, dated November 2012, in accordance with the National Environmental Policy Act (NEPA).

DATES: The FONSI and/or Final EA are available as of the publication date of this notice.

ADDRESSES: Interested parties may request copies of the FONSI and/or Final EA, from: Mr. Sam Tarr, Centers for Disease Control and Prevention, Buildings and Facilities Office, 1600 Clifton Road NE., Mailstop K96, Atlanta, GA, 30333. Telephone Number (770) 488-8170.

SUPPLEMENTARY INFORMATION: The Final EA evaluated the granting of an easement to the Metropolitan Sewer District of Greater Cincinnati (MSD) for the sole purpose of installing sanitary sewer and storm sewer improvements to the MSD's existing sewer system and the rehabilitation and expansion of an existing storm water detention basin. The proposed easement covers approximately 0.64 acres located adjacent to the intersection of Grandin Road and Grand Beech Lane, Cincinnati, Ohio. The EA also evaluated the construction activities associated with the MSD's sanitary sewer and storm sewer improvements. The purpose and need of the proposed easement is to provide access to MSD to implement/construct MSD sanitary sewer and storm sewer improvements on Federally-owned land in the custody and control of HHS/CDC.

The Final EA has been prepared in accordance with the National Environmental Policy Act (NEPA) of 1969. Based on the results of the EA, HHS/CDC has issued a Finding of No Significant Impact (FONSI) indicating that the proposed action will not have a significant impact on the environment. Minimization and mitigating measures will include: Compliance with applicable regulatory laws, procedures, and permits for all construction activities; development and implementation of Erosion and Sedimentation Control Plan; conduct potential habitat survey for identified wildlife; site review by state historic preservation office before construction to avoid disturbance of any site with the potential for archeological significance; and the application of best management practices (BMP) to minimize short term air quality and noise impact during construction activities.

Dated: January 16, 2013.
J. Ronald Campbell,
Director, Division of Executive Secretariat, Centers for Disease Control and Prevention.

[FR Doc. 2013-01390 Filed 1-23-13; 8:45 am]

BILLING CODE 4163-18-P